DEPARTMENT OF DEFENSE

Department of the Army

[No. USA-2007-0005]

Submission for OMB Review; Comment Request

ACTION: Notice.

The Department of Defense has submitted to OMB for clearance, the following proposal for collection of information under the provisions of the Paperwork Reduction Act (44 U.S.C. Chapter 35).

DATES: Consideration will be given to all comments received by October 18, 2007.

Title, Form, and OMB Number: Vessel Operation Report; ENG Form 3925, 3925B, 3925C, and 3925P; OMB Control Number 0710-0006.

Type of request: Extension.

Number of respondents: 1,223.

Responses per respondents: 160,026.

Annual responses: 195,712.

Average burden per response: 13.3524 minutes.

Annual burden hours: 43,553 hours.

Needs and uses: The Corps of Engineers uses ENG Forms 3925, 3925B, 3925C, and 3925P as the basic instruments to collect waterborne commerce statistics. These data, collected from vessel operating companies, constitute the sole source for domestic vessel movements of freight and passengers on U.S. navigable waterways and harbors; are essential to plans for maintaining U.S. navigable waterways; and are critical to enforcing the “Harbor Maintenance Tax” authorized under Sec. 1402 of Pub. L. 99-662.

Affected public: Business or other for-profit.

Frequency: Monthly.

Respondent's Obligation: Mandatory.

OMB Desk Officer: Mr. James Laity.

Written comments and recommendations on the proposed information collection should be sent to Mr. Laity at the Office of Management and Budget, Desk Officer for DoD, Room 10236, New Executive Office Building, Washington, DC 20503.

You may also submit comments, identified by docket number and title, by the following method:

• Federal eRulemaking Portal: http:www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, PRN Suite 11000, Arlington, VA 22209-2133.

Dated: September 11, 2007.
Patricia L. Toppings,
Alternate OSD Federal Register Liaison Officer, Department of Defense.

[FR Doc. 07-4609 Filed 9-17-07; 8:45 am]

BILLING CODE 5001-06-M